DEPARTMENT OF HEALTH AND HUMAN SERVICES

National Institutes of Health

Center for Scientific Review; Amended Notice of Meeting

Notice is hereby given of a change in the meeting of the Center for Scientific Review Special Emphasis Panel, June 16, 2008, 8 a.m. to June 17, 2008, 5 p.m., Four Points Sheraton, 1201 K Street, NW., Washington, DC 20005 which was published in the Federal Register on May 2, 2008, 73 FR 24296-24298. The meeting will be held June 23, 2008. The meeting time and location remain the same. The meeting is closed to the public.

Dated: May 14, 2008.
Jennifer Spaeth,
Director, Office of Federal Advisory Committee Policy.

[FR Doc. E8-11304 Filed 5-21-08; 8:45 am]

BILLING CODE 4140-01-M